DEPARTMENT OF TRANSPORTATION

Federal Aviation Administration

Seventy-Fourth Meeting: RTCA Special Committee 159: Global Positioning System (GPS)

AGENCY: Federal Aviation Administration (FAA), DOT.

ACTION: Notice of RTCA Special Committee 159 meeting.

SUMMARY: The FAA is issuing this notice to advise the public of a meeting of RTCA Special Committee 159: Global Positioning System.

DATES: The meeting will be held December 4-7, 2007, from 9 a.m. to 4:30 p.m. (unless stated otherwise).

ADDRESSES: The meeting will be held at RTCA, Inc. 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 159 meeting. Note: Specific working group sessions will be held December 4-7, 2007. The plenary agenda will include:

• December 4:

• All Day, Working Group 6, GPS/Interface, ARINC Room.

• December 5:

• All Day, Working Group 6, GPS/Interface, ARINC Room.

• December 6:

• All Day Working Group 6, GPS/Interface, ARINC Room.

• December 7:

• Opening Plenary Session (Chairman's Remarks, Introductions).

• Approval of Summary of the Seventy-Third Meeting Held September 21, 2007 RTCA Paper No. 274-07/SCI59-954.

• Consider for Approval—Revised DO-235A-Assessment of Radio Frequency Interface Relevant to the GNSS, RTCA Paper No. 261-07/SCI59-953.

• Review/Approval—Velocity Accuracy, Figure of Merit and Associated Test Text—GRAS MOPS.

• Closing Plenary Session (Assignment/Review of Future Work, Other Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 15, 2007.
Francisco Estrada C.,
RTCA Advisory Committee.

[FR Doc. 07-5803 Filed 11-23-07; 8:45 am]

BILLING CODE 4910-13-M